DEPARTMENT OF THE INTERIOR

Bureau of Land Management

[WY-957-04-9820-BK-WY02]

Notice of Filing of Plats of Survey, Wyoming

SUMMARY: The Bureau of Land Management (BLM) has filed the plats of survey of the lands described below in the BLM Wyoming State Office, Cheyenne, Wyoming, on August 3, 2004.

FOR FURTHER INFORMATION CONTACT: Bureau of Land Management, 5353 Yellowstone Road, PO Box 1828, Cheyenne, Wyoming 82003.

SUPPLEMENTARY INFORMATION: These surveys were executed at the request of the U.S. Forest Service, and are necessary for the management of resources. The lands surveyed are:

The plat and field notes representing the dependent resurvey of Mineral Survey Nos. 64 and 66, Township 15 North, Range 86 West, Sixth Principal Meridian, Wyoming, was accepted August 3, 2004.

Copies of the preceding described plat and field notes are available to the public at a cost of $1.10 per page.

Dated: August 13, 2004.
John P. Lee,
Chief Cadastral Surveyor, Division of Support Services.

[FR Doc. 04-18995 Filed 8-18-04; 8:45 am]

BILLING CODE 4310-22-P